DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons whose property and interests in property have been unblocked and who have been removed from the list of Specially Designated Nationals and Blocked Persons.

DATES: See SUPPLEMENTARY INFORMATION section for effective date(s).

FOR FURTHER INFORMATION CONTACT: OFAC: Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

On December 11, 2024, OFAC determined that the property and interests in property subject to U.S. jurisdiction of the following persons are unblocked and they have been removed from the SDN List under the relevant sanctions authorities listed below.

Individuals

1. HERNANDEZ ZEA, Ana Elvia, Carrera 35 No. 53-53, Bogota, Colombia; c/o INTERCONTINENTAL DE AVIACION S.A., Bogota, Colombia; c/o INTERCONTINENTAL DE FINANCIACION AEREA S.A., Bogota, Colombia; c/o GREEN ISLAND S.A., Bogota, Colombia; DOB 28 Dec 1949; POB Tibasosa, Boyaca, Colombia; Cedula No. 41503907 (Colombia); Passport AG686192 (Colombia); alt. Passport AC594144 (Colombia); alt. Passport AE591041 (Colombia) (individual) [SDNT].

2. LOPEZ DIAZ, Jesus Alfonso, c/o ESTABLO PUERTO RICO S.A. DE C.V., Culiacan, Sinaloa, Mexico; Avenida Const. Pedro L Zavala 1957, Colonia Libertad, Culiacan, Sinaloa 80180, Mexico; DOB 30 Sep 1962; POB Sinaloa, Mexico; nationality Mexico; citizen Mexico; R.F.C. LODJ-620930 (Mexico); C.U.R.P. LODJ620930HSLPZS09 (Mexico) (individual) [SDNTK].

3. ALVAREZ CASTRO, Santiago, Colombia; DOB 31 Dec 1956; POB Medellin, Antioquia, Colombia; Gender Male; Cedula No. 70118888 (Colombia) (individual) [SDNTK] (Linked To: CLAMASAN S.A.S.; Linked To: AGROINDUSTRIAS CIMA S.A.S.; Linked To: AGROPECUARIA MAIS SOCIEDAD POR ACCIONES SIMPLIFICADA).

4. CALLE SERNA, Luis Enrique (a.k.a. CALLE SERNA, Manuel; a.k.a. “COMBA”; a.k.a. “COMBATIENTE”), Carrera 24C No. 33B-108, Santa Monica, Casanare, Colombia; Calle 1 No. 56-109, Seminario B, Caro 31, Cali, Colombia; Avenida 8N No. 9N-57, Cali, Colombia; DOB 16 Aug 1976; POB Cali, Colombia; alt. POB Armenia, Quindio, Colombia; citizen Colombia; Cedula No. 94487319 (Colombia) issued 31 Oct 1994; Passport AI811078 (Colombia) issued 09 May 2003; alt. Passport AH454934 (Colombia); alt. Passport 94487319 (Colombia) issued 09 May 2003 expires 09 May 2013 (individual) [SDNT].

5. LOPEZ PENA, Julio Cesar (a.k.a. “COMBA”; a.k.a. “JULITO”), Carrera 71 No. 10 Bis 103, Cali, Colombia; Avenida 4O No. 6-140, Apt. 1301, Cali, Colombia; Calle 62 No. 4C-18, Cali, Colombia; Carrera 72 No. 10 bis 21, Apt. 303, Cali, Colombia; Carrera 16 No. 21N-02, Armenia, Colombia; DOB 25 Jun 1961; POB Chaparral, Tolima, Colombia; citizen Colombia; Cedula No. 16655942 (Colombia) (individual) [SDNT].

6. RESTREPO VICTORIA, Maria Teresa, c/o AGROPECUARIA PALMA DEL RIO S.A., Ibague, Colombia; Carrera 17 No. 91-42, Apt. 502, Bogota, Colombia; DOB 04 Dec 1949; POB Garzon, Huila, Colombia; Cedula No. 41477630 (Colombia) (individual) [SDNT].

7. RESTREPO VICTORIA, Eduardo (a.k.a. “EL SOCIO”), c/o AGROPECUARIA PALMA DEL RIO S.A., Ibague, Colombia; c/o RR TOUR, S.A. DE C.V., Guadalajara, Mexico; Calle 6 No. 3-73, Ibague, Tolima, Colombia; DOB 28 Sep 1958; POB Pital, Huila, Colombia; nationality Colombia; citizen Colombia; Cedula No. 12187343 (Colombia); Passport AG989562 (Colombia); alt. Passport AE678681 (Colombia) (individual) [SDNT].

8. VARELA, Wilber (a.k.a. GARCIA GARCIA, Jairo; a.k.a. GARCIA VARELA, Wilber Alirio; a.k.a. VARELA FAJARDO, Wilber Alirio; a.k.a. VARELA, Fredy; a.k.a. VARELA, Wilber Alirio; a.k.a. VARELA, Wilmer; a.k.a. “DON JAIRO”; a.k.a. “JABON”), Calle 22 No. 15-53, Armenia, Quindio, Colombia; Calle 30 No. 23B-22, Cali, Colombia; Carrera 85 No. 14A-57, Cali, Colombia; Calle 11 No. 4-442, Ofc. 722, Cali, Colombia; DOB 06 Nov 1954; POB Roldanillo, Valle, Colombia; alt. POB Armenia, Quindio, Colombia; citizen Colombia; Cedula No. 16891223 (Colombia); alt. Cedula No. 16545384 (Colombia); Passport AF427757 (Colombia) (individual) [SDNT].

Entities

1. INTERCONTINENTAL DE AVIACION S.A. (a.k.a. INTERCONTINENTAL; a.k.a. “INTER”), Avenida El Dorado Entrada 2 Int. 6, Bogota, Colombia; NIT #860009526-3 (Colombia) [SDNT].

2. ASESORIAS PROFESIONALES LTDA., Calle 21 No. 15-26, Ofc. 304, Armenia, Quindio, Colombia; NIT #801000611-6 (Colombia) [SDNT].

3. RR TOUR, S.A. DE C.V., Lopez Cotilla 1994, C.P. 44140, Guadalajara, Mexico [SDNT].

Dated: December 11, 2024.
Gregory T. Gatjanis,
Associate Director, Office of Foreign Assets Control.

[FR Doc. 2025-01880 Filed 1-28-25; 8:45 am]

BILLING CODE 4810-AL-P